DEPARTMENT OF HEALTH AND HUMAN SERVICES

Administration for Children and Families

Submission for OMB Review; Comment Request

Title: Head Start Program Information Report.

OMB No.: 0980-0017.

Description: The report is submitted annually by all Head Start and Early Head Start grantees and delegate agency. The report contains information which the grantees complete such as, number and ages of children enrolled, what educational and health services they receive and what family services are provided.

Respondents: Head Start Grantees

Annual Burden Estimates
Instrument | Number of respondents | Number of responses per respondent | Average burden hours per response | Total burden hours
PIR | 2,437 | 1 | 04 | 9,748
Estimated Total Annual Burden Hours |  |  |  | 9,748

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: August 28, 2001.
Bob Sargis,
Reports Clearance Officer.

[FR Doc. 01-22124 Filed 8-31-01; 8:45 am]

BILLING CODE 4184-01-M